DEPARTMENT OF TRANSPORTATION

Research and Special Programs Administration (RSPA)

[Docket No. RSPA-98-4470]

Pipeline Safety: Meetings of the Pipeline Safety Advisory Committees

AGENCY: Office of Pipeline Safety, Research and Special Programs Administration, DOT.

ACTION: Notice; Meetings of the Technical Pipeline Safety Standards Committee and the Technical Hazardous Liquid Pipeline Safety Standards Committee.

SUMMARY: Meetings of the Technical Pipeline Safety Standards Committee (TPSSC) and the Technical Hazardous Liquid Pipeline Safety Standards Committee (THLPSSC) will be held from Tuesday, March 25 to Thursday, March 27, 2003, at the Hyatt Arlington Hotel, Arlington, VA. OPS will provide briefings on pending rulemakings and regulatory initiatives. The advisory committees will discuss and vote on various proposed rulemakings and associated risk assessments.

ADDRESSES: Members of the public may attend the meetings at the Hyatt Arlington Hotel, 1325 Wilson Boulevard, Arlington, VA. The exact location and room number for this meeting will be posted on the OPS web page approximately 15 days before the meeting date at http://ops.dot.gov.

An opportunity will be provided for the public to make short statements on the topics under discussion. Anyone wishing to make an oral statement should notify Jean Milam, (202) 493-0967, not later than March 18, 2003, on the topic of the statement and the length of the presentation. The presiding officer at each meeting may deny any request to present an oral statement and may limit the time of any presentation.

You may submit written comments by mail or deliver to the Dockets Facility, U.S. Department of Transportation, Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should reference docket number RSPA-98-4470. Anyone who would like confirmation of mailed comments must include a self-addressed stamped postcard.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Information on Services for Individuals With Disabilities

For information on facilities or services for individuals with disabilities or to request special assistance at the meeting, contact Jean Milam at (202) 493-0967.

FOR FURTHER INFORMATION CONTACT: Cheryl Whetsel, OPS, (202) 366-4431 or Richard Huriaux, OPS, (202) 366-4565, regarding the subject matter of this notice.

SUPPLEMENTARY INFORMATION: The TPSSC and THLPSSC are statutorily mandated advisory committees that advise the Research and Special Programs Administration's (RSPA) Office of Pipeline Safety (OPS) on proposed safety standards for gas and hazardous liquid pipelines. These advisory committees are constituted in accordance with section 10(a)(2) of the Federal Advisory Committee Act (Pub. L. 92-463, 5 U.S.C. App. 1). The committees consist of 15 members—five each representing government, industry, and the public. The TPSSC and THLPSSC are tasked with determining reasonableness, cost-effectiveness, and practicability of proposed pipeline regulations.

Federal law requires that OPS submit cost-benefit analyses and risk assessment information on proposed safety standards to the advisory committees. The TPSSC and/or THLPSSC evaluate the merit of the data and methods used within the analyses, and when appropriate, provide recommendations relating to the cost-benefit analyses.

On Tuesday, March 25, 2003, from 12:30 p.m. to 4:30 p.m. EST, the Technical Hazardous Liquid Pipeline Safety Standards Committee (THLPSSC) will meet. The preliminary agenda includes a briefing and committee vote on the Notice of Proposed Rulemaking, “Recommendations to Change Hazardous Liquid Pipeline Safety Requirements.” In addition, OPS will brief the THLPSSC on the following topics:

1. Revision to Hazardous Liquid Pipeline Annual Report.

2. National Pipeline Mapping System.

3. Gathering Lines.

On Wednesday, March 26, 2003, from 9 a.m. to 6 p.m. EST, the THLPSSC and the TPSSC will meet in joint session. The preliminary agenda includes a briefing and peer review of the Pipeline Research and Development Plan. OPS will provide the Committee with briefings on the following topics:

1. Pipeline Communication and Public Education Programs.

2. Alternative Mitigation Measures.

3. Pipeline Integrity Management—Partial Issues.

4. Damage Prevention, Common Ground Alliance and Nationwide Toll-Free Number (# Dig).

5. Operator Qualification Compliance.

6. Pipeline Security.

7. Office of Pipeline Safety Initiatives.

On Thursday, March 27, 2003, from 9 a.m. to 6 p.m. EST the TPSSC will meet. A major portion of the meeting will include a briefing on the NPRM, Pipeline Integrity Management for Gas Transmission Pipelines in High Consequence Areas (HCAs) and of the Cost Benefit Analysis. The TPSSC will vote on the Cost Benefit Analysis of Pipeline Integrity Management for Gas Transmission Pipelines in HCAs and on the NPRM, “Further Regulatory Review: Gas Pipeline Safety Standards.” Additional briefings will be provided on the following topics:

1. National Pipeline Mapping System.

2. Cost-Benefit Study of Excess Flow Valve Installation on Gas Service Lines

3. Gas Gathering Line Issues

Authority: 49 U.S.C. 60102, 60115.

Issued in Washington, DC on March 4, 2003.
Richard D. Huriaux,
Manager, Regulations, Office of Pipeline Safety.

[FR Doc. 03-5448 Filed 3-6-03; 8:45 am]

BILLING CODE 4910-60-P